DEPARTMENT OF TRANSPORTATION

Federal Highway Administration

Environmental Impact Statement; Sherburne and Stearns Counties, MN

AGENCY: Federal Highway Administration (FHWA), DOT.

ACTION: Notice of intent.

SUMMARY: The FHWA is issuing this notice to advise the public that a Tier I environmental impact statement (EIS) will be prepared for a proposed east/west minor arterial connection between Trunk Highway (TH) 15 and TH 10, including a crossing of the Mississippi River, in an area south of 10th Street South and north of Interstate 94 in the St. Cloud Metropolitan Area, Sherburne and Stearns Counties, Minnesota. The Tier I EIS will include the analysis needed for a location decision.

FOR FURTHER INFORMATION CONTACT: Cheryl Martin, Federal Highway Administration, Galtier Plaza, 380 Jackson Street, Suite 500, St. Paul, Minnesota 55101, Telephone (651) 291-6120; or Scott Mareck, Transportation Planner/GIS Coordinator, St. Cloud Area Planning Organization, 1040 County Road 4, St. Cloud, Minnesota 56303, Telephone (320) 252-7568.

SUPPLEMENTARY INFORMATION: The FHWA, in cooperation with the City of St. Cloud, Minnesota, will prepare a Tier I EIS on a proposal to construct an east/west minor arterial connection between TH 15 and TH 10, in an area south of 10th Street South and north of Interstate 94 in the St. Cloud Metropolitan Area, in Sherburne and Stearns Counties, Minnesota. The proposed action is being considered to preserve an alignment for the construction of a future highway, including a river crossing, to address the need for improved east/west minor arterial continuity, land use and trip generation growth, and forecasted 2025 congestion on existing bridges.

The Tier I EIS will evaluate the social, economic, transportation and environmental impacts of alternatives, including: (1) No-Build, (2) Transportation Demand Management, and (3) Three alignment alternatives identified within the 33rd Street Corridor.

The Tier II EIS will be prepared in fifteen to twenty years. At that time, design alternatives for the preferred alignment will be considered and environmental impacts and mitigation will be studied in greater detail. It is anticipated that the “St. Cloud Metropolitan Area Mississippi River Crossing Scoping Document/Draft Scoping Decision Document” will be published early in 2003. A press release will be published to inform the public of the document's availability. Copies of the scoping document will be distributed to agencies, interested persons and libraries for review to aid in identifying issues and analyses to be contained in the Tier I EIS. A thirty-day comment period for review of the document will be provided to afford an opportunity for all interested persons, agencies and groups to comment on the proposed action. A public scoping meeting will also be held during the comment period. Public notice will be given for the time and place of the meeting. A Tier I Draft EIS will be prepared based on the outcome of the scoping process.

Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: December 17, 2002.
Stanley M. Graczyk,
Project Development Engineer, Federal Highway Administration, St. Paul, Minnesota.

[FR Doc. 02-32514 Filed 12-24-02; 8:45 am]

BILLING CODE 4910-22-M